DEPARTMENT OF HOUSING AND URBAN DEVELOPMENT

[Docket No. FR-5923-N-04]

Notice of a Federal Advisory Committee Manufactured Housing Consensus Committee Technical Systems Subcommittee Teleconference

AGENCY: Office of the Assistant Secretary for Housing—Federal Housing Commissioner, Department of Housing and Urban Development (HUD).

ACTION: Notice of a Federal Advisory Committee Meeting: Manufactured Housing Consensus Committee (MHCC).

SUMMARY: This notice sets forth the schedule and proposed agenda for a teleconference meeting of the MHCC, Technical Systems Subcommittee. The teleconference meeting is open to the public. The agenda provides an opportunity for citizens to comment on the business before the MHCC.

DATES: The teleconference meeting will be held on September 27, 2016, from 1:00 p.m. to 4:00 p.m. Eastern Daylight Time (EDT). The teleconference numbers are: US toll-free: 1-866-622-8461, Participant Code: 4325434. Webinar: https://zoom.us/j/929792358; Meeting ID: 929-792-358.

FOR FURTHER INFORMATION CONTACT: Pamela Beck Danner, Administrator and Designated Federal Official (DFO), Office of Manufactured Housing Programs, Department of Housing and Urban Development, 451 Seventh Street SW., Room 9168, Washington, DC 20410, telephone 202-708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974, 42 U.S.C. 5403(a)(3), as amended by the Manufactured Housing Improvement Act of 2000 (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation.

The MHCC is deemed an advisory committee not composed of Federal employees.

PUBLIC COMMENT: Citizens wishing to make oral comments on the business of the MHCC are encouraged to register by or before September 21, 2016, by contacting Home Innovation Research Labs, Attention: Kevin Kauffman, 400 Prince Georges Boulevard, Upper Marlboro, MD 20774; or email to: mhcc@homeinnovation.com or call 1-888-602-4663. Written comments are encouraged. The MHCC strives to accommodate citizen comments to the extent possible within the time constraints of the meeting agenda. Advance registration is strongly encouraged. The MHCC will also provide an opportunity for public comment on specific matters before the Technical Systems Subcommittee.

TENTATIVE AGENDA:

September 27, 2016

I. Call to Order—Chair & Designated Federal Officer (DFO)

II. Opening Remarks—Subcommittee Chair and DFO

III. Roll Call—Administering Organization (AO)

IV. Administrative Announcements—DFO and AO

V. Approval of Minutes from December 2, 2015—Technical Systems Subcommittee Meeting—(See www.hud.gov/mhs)

VI. NFPA 70-2014 Recommendation to adopt NFPA 70-2014 including the following Sections in their entirety:

a. Section 210.8—Ground—Fault Circuit-Interrupter Protection for Personnel

b. Section 210.12(A)—Arc-Fault Circuit-Interrupter Protection

c. Section 406.12(A)—Tamper-Resistant Receptacles

d. Section 550.4(A) & (B)—General Requirements;

and Section 210.52(E)(3)—Balconies, Decks and Porches as amended (See www.hud.gov/mhs Minutes of NFPA 70-2014 Task Force Meeting, May 25, 2016)

VII. New Business:

• Log 113—Update “ANSI/AHRI Standard 210/240-89” to “ANSI/AHRI 210-240-2008” (See www.hud.gov/mhs)

• Log 114—Update “ANSI Z21.47-1990” to ANSI Z21.47-2012/CSA 2.3—2012” (See www.hud.gov/mhs)

VIII. Open Discussion

IX. Public Comments

X. Wrap Up—DFO/AO

XI. Adjourn 4:00 p.m.

Dated: August 17, 2016.
Pamela Beck Danner,
Administrator, Office of Manufactured Housing Programs.

[FR Doc. 2016-20127 Filed 8-22-16; 8:45 am]

BILLING CODE 4210-67-P